FEDERAL COMMUNICATIONS COMMISSION

[CC Docket No. 92-237; DA 03-3214]

North American Numbering Council; Meeting

AGENCY: Federal Communications Commission.

ACTION: Notice.

SUMMARY: On October 16, 2003, the Commission released a public notice announcing the November 5, 2003 meeting and agenda of the North American Numbering Council (NANC). The intended effect of this action is to make the public aware of the NANC's next meeting and its agenda.

DATES: Wednesday, November 5, 2003, 9 a.m.

ADDRESSES: Telecommunications Access Policy Division, Wireline Competition Bureau, Federal Communications Commission, The Portals II, 445 12th Street, SW., Suite 5-A420, Washington, DC 20554. Requests to make an oral statement or provide written comments to the NANC should be sent to Deborah Blue.

FOR FURTHER INFORMATION CONTACT: Deborah Blue, Special Assistant to the Designated Federal Officer (DFO) at (202) 418-1466 or Deborah.Blue@fcc.gov. The fax number is: (202) 418-2345. The TTY number is: (202) 418-0484.

SUPPLEMENTARY INFORMATION: Released: October 16, 2003.

The North American Numbering Council (NANC) has scheduled a meeting to be held Wednesday, November 5, 2003, from 9 a.m. until 5 p.m. The meeting will be held at the Federal Communications Commission, Portals II, 445 12th Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

Proposed Agenda—Wednesday, November 5, 2003, 9 a.m.

1. Announcements and Recent News

—New NANC Charter

2. Approval of Minutes

—Meeting of September 25, 2003

3. Report of Cost Recovery Working Group

4. Report from NBANC

5. Report of NAPM, LLC

6. Status of Contamination Threshold IMG (final report due at March 16, 2004 NANC meeting)

7. Report from OUR regarding impact on Caribbean carriers of reclamation of “paid toll free” numbers on April 1, 2004

8. Report of 3-Digit DIG IMG

9. Discussion of Multiple LRNs Issue

—SBC technical presentation re cross-LATA boundaries

—INC's assignment practices

—NANPA's survey

10. Report of National Thousands Block Pooling Administrator

—Activity report

11. Status of Industry Numbering Committee (INC) activities

—Summary of VoIP Workshop and matrix

12. Report of Local Number Portability Administration (LNPA) Working Group

—Wireless Number Portability Operations (WNPO) Subcommittee

13. Report of the North American Numbering Plan Administrator (NANPA)

—CO Code Activity

—NPA Relief Report

14. Report of Numbering Oversight Working Group (NOWG)

—Change Order review

—Status of NANPA and PA annual reviews

15. Update List of NANC Accomplishments

16. Summary of Action Items

17. Public Comments and Participation (5 minutes per speaker)

18. Other Business

Adjourn no later than 5 p.m.

Next Meeting: January 13, 2004.

Federal Communications Commission.
Cheryl L. Callahan,
Assistant Chief, Telecommunications Access Policy Division, Wireline Competition Bureau.

[FR Doc. 03-26771 Filed 10-21-03; 8:45 am]

BILLING CODE 6712-01-P